SECURITIES AND EXCHANGE COMMISSION

[Release No. 34-103052A; File No. SR-NYSETEX-2025-09]

Self-Regulatory Organizations; NYSE Texas, Inc.; Notice of Filing and Immediate Effectiveness of Proposed Rule Change To Enhance the NYSE Texas Integrated Feed Market Data Product; Correction

June 9, 2025.

AGENCY: Securities and Exchange Commission.

ACTION: Notice; correction.

SUMMARY: The Securities and Exchange Commission published a document in the Federal Register on May 22, 2025, concerning a Notice of Filing and Immediate Effectiveness of Proposed Rule Change to Enhance the NYSE Texas Integrated Feed Market Data Product. The document contained a typographical error.

FOR FURTHER INFORMATION CONTACT: Pamela L. Timus, Securities and Exchange Commission, 100 F Street NE, Washington, DC 20549, (202) 551-5400.

SUPPLEMENTARY INFORMATION:

Correction

In the Federal Register of May 22, 2025, in FR Doc. 2025-09178, on page 21975, in the third column, in the heading, correct the agency docket number to read “[Release No. 34-103052; File No. SR-NYSETEX-2025-09]”.

Dated: June 9, 2025.
Sherry R. Haywood,
Assistant Secretary.

[FR Doc. 2025-10925 Filed 6-13-25; 8:45 am]

BILLING CODE 8011-01-P